ENVIRONMENTAL PROTECTION AGENCY

[EPA-HQ-OPP-2013-0121; FRL-9383-6]

Registration Review; Pesticide Dockets Opened for Review and Comment and Other Docket Acts; Correction

AGENCY: Environmental Protection Agency (EPA).

ACTION: Notice; correction.

SUMMARY: EPA issued a notice in the Federal Register of Wednesday, March 27, 2013, concerning registration review, pesticide dockets opened for review and comment, and other docket acts. This document is being issued to correct a typographical error.

FOR FURTHER INFORMATION CONTACT: Margaret Hathaway, Pesticide Re-evaluation Division (7508P), Office of Pesticide Programs, Environmental Protection Agency, 1200 Pennsylvania Ave. NW., Washington, DC 20460-0001; telephone number: (703) 305-5076; email address: hathaway.margaret@epa.gov.

SUPPLEMENTARY INFORMATION:

I. General Information

A. Does this action apply to me?

The Agency included in the notice a list of those who may be potentially affected by this action.

B. How can I get copies of this document and other related information?

The docket for this action, identified by docket identification (ID) number EPA-HQ-OPP-2013-0121, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

FR Doc. 2013-07076 published in the Federal Register of Wednesday, March 27, 2013 (78 FR 18586) (FRL-9381-9) is corrected as follows:

On page 18587, in the table entitled “Registration Review Dockets Opening,” the docket number for Bromoxynil and esters (Case #2070), shown in the second column of the table, is corrected to read “EPA-HQ-OPP-2012-0896.”

List of Subjects

Environmental protection; Pesticides and pests.

Dated: April 2, 2013.
Richard P. Keigwin, Jr.,
Director, Pesticide Re-evaluation Division Office of Pesticide Programs.

[FR Doc. 2013-08253 Filed 4-8-13; 8:45 am]

BILLING CODE 6560-50-P